DEPARTMENT OF THE INTERIOR

National Park Service

Notice of Inventory Completion: University of Washington, Department of Anthropology, Seattle, WA

AGENCY: National Park Service, Interior.

ACTION: Notice.

Notice is here given in accordance with the Native American Graves Protection and Repatriation Act (NAGPRA), 25 U.S.C. 3003, of the completion of an inventory of human remains in the possession of the University of Washington, Department of Anthropology, Seattle, WA. The human remains were removed from Huckleberry Island, Skagit County, WA.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by the University of Washington, Department of Anthropology and Burke Museum staff in consultation with representatives of the Samish Indian Tribe, Washington.

At an unknown date, human remains representing a minimum of one individual were removed from Huckleberry Island, Skagit County, WA. No known individual was identified. No associated funerary objects are present.

The human remains were determined to be consistent with Native American morphology, as evidenced through cranial deformation and presence of wormian bones.

Huckleberry Island is a small island located approximately 1/4 mile southeast of Guemes Island, in Skagit County, WA. This area falls within the Central Coast Salish cultural group (Suttles 1990). Historical documentation indicates that the Samish people traditionally occupied Guemes Island (Amoss 1978, Roberts 1975, Ruby and Brown 1986, Smith 1941, Suttles 1951, Swanton 1952) and Huckleberry Island (Barg 2008, unpublished report) both before and after contact. Today, the Samish people are represented by the Samish Indian Nation, Washington.

Officials of the University of Washington, Department of Anthropology have determined that, pursuant to 25 U.S.C. 3001 (9-10), the human remains described above represent the physical remains of one individual of Native American ancestry. Officials of the University of Washington, Department of Anthropology have also determined that, pursuant to 25 U.S.C. 3001 (2), there is a relationship of shared group identity that can be reasonably traced between the Native American human remains and the Samish Indian Tribe, Washington.

Representatives of any other Indian tribe that believes itself to be culturally affiliated with the human remains should contact Dr. Bettina Shell-Duncan, University of Washington, Department of Anthropology, Box 353100, Seattle, WA 98195, telephone (206) 543-9607, before April 26, 2010. Repatriation of the human remains to the Samish Indian Tribe, Washington may proceed after that date if no additional claimants come forward.

The University of Washington Department of Anthropology and the Burke Museum is responsible for notifying the Confederated Tribes and Bands of the Yakama Nation, Washington; Confederated Tribes of the Chehalis Reservation, Washington; Confederated Tribes of the Colville Reservation, Washington; Hoh Indian Tribe of the Hoh Indian Reservation, Washington; Jamestown S'Klallam Tribe of Washington; Kalispel Indian Community of the Kalispel Reservation, Washington; Lower Elwha Tribal Community of the Lower Elwha Reservation, Washington; Lummi Tribe of the Lummi Reservation, Washington; Makah Indian Tribe of the Makah Indian Reservation, Washington; Muckleshoot Indian Tribe of the Muckleshoot Reservation, Washington; Nisqually Indian Tribe of the Nisqually Reservation, Washington; Nooksack Indian Tribe of Washington; Port Gamble Indian Community of the Port Gamble Reservation, Washington; Puyallup Tribe of the Puyallup Reservation, Washington; Quileute Tribe of the Quileute Reservation, Washington; Quinault Tribe of the Quinault Reservation, Washington; Samish Indian Tribe, Washington; Sauk-Suiattle Indian Tribe of Washington; Shoalwater Bay Tribe of the Shoalwater Bay Indian Reservation, Washington; Skokomish Indian Tribe of the Skokomish Reservation, Washington; Spokane Tribe of the Spokane Reservation, Washington; Squaxin Island Tribe of the Squaxin Island Reservation, Washington; Stillaguamish Tribe of Washington; Suquamish Indian Tribe of the Port Madison Reservation, Washington; Swinomish Indians of the Swinomish Reservation, Washington; Tulalip Tribes of the Tulalip Reservation, Washington; and Upper Skagit Indian Tribe of Washington that this notice has been published.

Dated: March 8, 2010
Sherry Hutt,
Manager, National NAGPRA Program.

[FR Doc. 2010-6576 Filed 3-24-10; 8:45 am]

BILLING CODE 4312-50-S